GENERAL SERVICES ADMINISTRATION

Proposed Collection: Submission for OMB Review; Comment Request Entitled Questionnaire: CD-ROM of the Catalog of Federal Domestic Assistance and Federal Assistance Award Data System

AGENCY: Office of Acquisition Policy, GSA.

ACTION: Notice of request for approval of a new information collection entitled Questionnaire: CD-ROM of the Catalog of Federal Domestic Assistance and Federal Assistance Award System.

SUMMARY: Under the provisions of the Paperwork Reduction Act of 1995 (44 U.S.C. Chapter 35), GSA has submitted to the Office of Management and Budget (OMB) a request to review and approve a new information collection concerning Questionnaire: CD-ROM of the Catalog of Federal Domestic Assistance and Federal Assistance Award Data system. The information collection was published in the Federal Register on November 29, 1999 at 64 FR 66638 allowing for the standard 60-day comment period. No comments were received.

The Federal Domestic Assistance Catalog Staff, General Services Administration is requesting that users of the CD-ROM version of the Catalog of Federal Domestic Assistance and Federal Assistance Award Data System reply, on a voluntary basis to a survey designed to determine user satisfaction and solicit comments that will help them understand users' needs. The Federal Domestic Assistance Catalog Staff will use information solicited from users to improve its usefulness to customers. Without this information, CD-ROM users' needs may go unrecognized. This is a voluntary survey that will take approximately 5 minutes to complete.

DATES: Submit comments on or before March 24, 2000.

ADDRESSES: Comments concerning this notice should be submitted to: Edward Springer, GSA Desk Officer, Room 3235, NEOB, Washington, DC 20503 and also may be submitted to: Jacqueline Garrett, Governmentwide Information Systems Division, Room 101—Reporters Building, 300 7th Street, SW, Washington, DC 20407, or e-mail to Jackie.Garrett@gsa.gov.

FOR FURTHER INFORMATION CONTACT: Jacqueline Garrett, Governmentwide Information Systems Division, Room 101—Reporters Building, 300 7th Street, SW, Washington, DC 20407, or e-mail to Jackie.Garrett@gsa.gov.

SUPPLEMENTARY INFORMATION:

A. Purpose

The purpose of this Notice is to solicit comments from users of the CD-ROM version of the Catalog of Federal Domestic Assistance (CFDA) and Federal Assistance Award Data System (FAADS) to improve its usefulness to customers.

B. Annual Reporting Burden

Respondents: 1,000; annual responses: 1,000; average hours per response: .10; burden hours: 100.

COPY OF PROPOSAL: A copy of this proposal may be obtained by contacting Jacqueline Garrett at the above address.

Dated: February 16, 2000.
J. Les Davison,
Acting Deputy Associate Administrator for Acquisition Policy.

[FR Doc. 00-4268 Filed 2-22-00; 8:45 am]

BILLING CODE 6820-61-M